DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before February 16, 2010. Address written comments to Statutory Import Programs Staff, Room 3720, U.S. Department of Commerce, Washington, DC 20230. Applications may be examined between 8:30 a.m. and 5 p.m. at the U.S. Department of Commerce in Room 3720.

Docket Number: 09-068. Applicant: University of Arkansas, 321 Administration Building, Fayetteville, Arkansas 72701.

Instrument: Fluorescence Lifetime Imaging Microscope.

Manufacturer: PicoQuant Photonics, Germany. Intended Use: The instrument will be used to measure both fluorescence lifetime and fluorescence intensity of single nanoparticles and biomolecules. The instrument must be able to perform using lasers with both continuous wave (CW) and pulsed mode. The use of picoseconds pulsed lasers is necessary to measure fluorescence lifetime. The use of CW lasers, so that the fluorophores will be continuously excited, is necessary to measure fluorescence intensity. The driver that controls the laser head provides user-selectable pulsed repetition rates. This instrument is unique in that it is capable of pulsed interleaved excitation (PIE)—Fluorescence Resonance Energy Transfer (FRET) and of allowing repetition rates to be continuously varied down to the 200 kHz range. Furthermore, the instrument is compatible with atomic force microscopy by using objective scanning mode rather than sample scanning mode so that the sample-scanning Atomic Force Microscope (AFM) can be added to the microscope in a future upgrade.

Justification for Duty-Free Entry: No instruments of same general category are manufactured in the United States.

Application accepted by Commissioner of Customs: December 28, 2009.

Dated January 19, 2010.
Christopher Cassel,
Director, IA Subsidies Enforcement Office.

[FR Doc. 2010-1337 Filed 1-22-10; 8:45 am]

BILLING CODE 3510-DS-P